DEPARTMENT OF VETERANS AFFAIRS

Advisory Committee on Prosthetics and Special-Disabilities Programs; Notice of Meeting

The Department of Veterans Affairs (VA) gives notice under Public Law 92-463 (Federal Advisory Committee Act) that a meeting of the Advisory Committee on Prosthetics and Special-Disabilities Programs will be held on May 3-4, 2011, in room 230, at VA Central Office, 810 Vermont Avenue, NW., Washington, DC. The sessions will convene at 8:30 a.m. on both days, and will adjourn at 4:30 p.m. on May 3 and at 12 noon on May 4. The meeting is open to the public.

The purpose of the Committee is to advise the Secretary of Veterans Affairs on VA's prosthetics programs designed to provide state-of-the art prosthetics and the associated rehabilitation research, development, and evaluation of such technology. The Committee also provides advice to the Secretary on special disabilities programs which are defined as any program administered by the Secretary to serve Veterans with spinal cord injuries, blindness or visual impairments, loss of extremities or loss of function, deafness or hearing impairment, and other serious incapacities in terms of daily life functions.

On May 3, the Committee will be briefed by the Acting Assistant Deputy Under Secretary for Clinical Operations and Management; Chief Consultant for Social Work Service; Director of Blind Rehabilitation Service; and Chief Consultant for Spinal Cord Injury & Disorders Strategic Healthcare Group. On May 4, the Committee will be briefed by the Chief Consultant for Care Coordination, and Chief Consultant for Rehabilitation Services.

No time will be allocated for receiving oral presentations from the public. However, members of the public may submit written statements for review by the Committee to Mr. Larry N. Long, Designated Federal Officer, Veterans Health Administration, Patient Care Services, Rehabilitation Services (117D), Department of Veterans Affairs, 810 Vermont Avenue, NW., Washington, DC 20420, or by e-mail at lonlar@va.gov. Any member of the public wishing to attend the meeting or wishing further information should contact Mr. Long at (202) 461-7354.

Dated: April 11, 2011.
By direction of the Secretary.
William F. Russo,
Director of Regulations Management, Office of the General Counsel.

[FR Doc. 2011-9088 Filed 4-13-11; 8:45 am]

BILLING CODE P